DEPARTMENT OF ENERGY

Federal Energy Regulatory Commission

Notice of Application for Non-Project Use of Project Lands and Waters and Soliciting Comments, Motions To Intervene, and Protests

March 13, 2006.

Take notice that the following hydroelectric application has been filed with the Commission and is available for public inspection.

a. Type of Application: Non-Project Use of Project Lands and Waters.

b. Project No.: 516-418.

c. Date filed: February 21, 2006.

d. Applicant: South Carolina Electric and Gas Company.

e. Name of Project: Saluda Hydroelectric Project.

f. Location: On the Saluda River, near the Town of Delmar, Saluda County, South Carolina.

g. Filed Pursuant to: Federal Power Act, 16 U.S.C. 791 (a) 825(r) and sections 799 and 801.

h. Applicant Contact: Beth Trump, South Carolina Gas and Electric Co., Land Management (MZ6), Columbia, SC 29218, telephone (803) 217-7912, fax (803) 933-7520, e-mail btrump@scana.com.

i. FERC Contact: Brandi Sangunett; telephone (202) 502-8393, e-mail brandi.sangunett@ferc.gov.

j. Deadline for filing comments and or motions: April 14, 2006.

k. Description of Proposal: South Carolina Electric and Gas Company is requesting Commission approval to authorize the use by Saluda County Water and Sewer Authority (SCWSA) of project lands for the withdrawal of up to 15 million gallons per day of water from the project reservoir for public drinking water, and to convey 0.23 acres of project property along with a 40-foot wide ingress and egress easement for the purpose of constructing a raw water pumping station and associated facilities. The water withdrawal would involve an inter-basin transfer from the Saluda River basin for use and discharge into the Lower Savannah River basin and the Edisto River basin. No lands presently reserved for public recreation will affected.

l. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field (p-516) to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-516-418). All documents (original and eight copies) should be filed with: Magalie R. Salas, Secretary, Federal Energy Regulatory Commission, 888 First Street, N.E., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-4031 Filed 3-20-06; 8:45 am]

BILLING CODE 6717-01-P